ENVIRONMENTAL PROTECTION AGENCY

[FRL-7147-7]

Acid Rain Program: Notice of State Acid Rain Programs

AGENCY: Environmental Protection Agency (EPA).

ACTION: Notice.

SUMMARY: Under titles IV and V of the Act, State and local air permitting authorities develop and administer acid rain programs as part of their title V operating permits programs. The state and local permitting authorities listed in this notice submitted acid rain programs for EPA review that are acceptable to the EPA Administrator as part of their title V operating permits programs. This notice is for informational purposes only and does not supplant any other Federal Register notices under title V.

FOR FURTHER INFORMATION CONTACT: Robert Miller, U.S. EPA, Clean Air Markets Division (6204N), 1200 Pennsylvania Ave. NW, Washington, DC 20460, (202) 564-9077.

SUPPLEMENTARY INFORMATION: The following state and local permitting authorities have submitted Acid Rain programs that are acceptable to the EPA Administrator as part of their title V operating permits programs:

Region 3

The Delaware Department of Natural Resources and Environmental Control in the state of Delaware, the Maryland Department of the Environment in the state of Maryland, the Pennsylvania Department of Environmental Protection in the state of Pennsylvania, the Virginia Department of Environmental Quality in the Commonwealth of Virginia, and the Department of Health, Bureau of Environmental Quality in the District of Columbia;

Region 4

The Western North Carolina Regional Air Quality Agency in the state of North Carolina;

Region 5

The Illinois Environmental Protection Agency in the state of Illinois and the Ohio Environmental Protection Agency in the state of Ohio;

Region 8

The Wyoming Department of Environmental Quality in the State of Wyoming.

Dated: February 8, 2002.
Brian J. McLean,
Director, Acid Rain Division, Office of Atmospheric Programs, Office of Air and Radiation.

[FR Doc. 02-4069 Filed 2-19-02; 8:45 am]

BILLING CODE 6560-50-P